DEPARTMENT OF JUSTICE

Notice of Lodging of Consent Decree Under the Clean Air Act

In accordance with 28 CFR 50.7, notice is hereby given that on December 21, 2005, a proposed Consent Decree in United States v. MGP Ingredients of Illinois, Inc. (“MGP”), Civil Action No. 05-1395, was lodged with the United States District Court for the Central District of Illinois.

In Complaints filed simultaneously with the lodging of the proposed Consent Decree, the United States and the State of Illinois (“Plaintiffs”) asserted claims on behalf of the U.S. Environmental Protection Agency (“U.S. EPA”) and the Illinois Environmental Protection Agency (“IEPA”) against the owners and operators of an ethanol dry mill in Pekin, Illinois, pursuant to Section 113(b) of the Clean Air Act (“Act”), 42 U.S.C. 7413(b). Plaintiffs sought injunctive relief and civil penalties for violations of the Prevention of Significant Deterioration (“PSD”) Provisions of the Act and regulations promulgated thereunder; New Source Performance Standards (“NSPS”), 40 CFR Part 60, subpart VV; and the Illinois state implementation plan.

In the proposed Consent Decree, MGP agrees, among other things, to install new equipment that includes a thermal oxidizer to control volatile organic compound (“VOC”), particulate, and carbon monoxide (“CO”) emissions from its dryer; achieve at least 95 percent removal of VOCs; meet stringent limits on CO, particulate matter, and NOX emissions; implement a program to reduce emissions during loading and transport operations and to manage dust on roads at the facility; comply with various monitoring and record-keeping requirements; apply for a revised operating permit from IEPA; and pay a civil penalty of $171,800, half to the United States and half to the State.

The Department of Justice will receive comments relating to the proposed Consent Decree for a period of thirty (30) days from the date of publication. Comments should be addressed to the Assistant Attorney General, Environment and Natural Resources Division, P.O. Box 7611, U.S. Department of Justice, Washington, D.C. 20044-7611, and should refer to: United States v. MGP Ingredients of Illinois, Inc., D.J. Ref. 90-5-2-1-08180.

The proposed Consent Decree may be examined at the Office of the United States Attorney for the Central District of Illinois, Peoria Division, One Technology Plaza, 211 Fulton Street, Suite 400, Peoria, Illinois 61602, and at U.S. EPA Region 5, 77 West Jackson Blvd., Chicago, IL 60604. During the pubic comment period the proposed Consent Decree may also be examined on the llowing Department of Justice Web site, http://www.usdoj.gov/enrd/open.html. A copy of the proposed Consent Decree, may also be obtained, by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.00 (25 cents per page reproduction cost) payable to the U.S. Treasury.

William D. Brighton,
Assistant Chief, Environmental Enforcement Section, Environment and Natural Resources Division.

[FR Doc. 06-82 Filed 1-4-06; 8:45 am]

BILLING CODE 4410-15-M